DEPARTMENT OF COMMERCE

Foreign-Trade Zones Board

[Order No. 1719]

Expansion of Foreign-Trade Zone 70; Detroit, Michigan

Pursuant to its authority under the Foreign-Trade Zones Act of June 18, 1934, as amended (19 U.S.C. 81a-81u), the Foreign-Trade Zones Board (the Board) adopts the following Order:

Whereas, the Greater Detroit Foreign-Trade Zone, Inc., grantee of Foreign-Trade Zone 70, submitted an application to the Board for authority to expand FTZ 70 to include two sites in the Detroit, Michigan, area, adjacent to the Detroit Customs and Border Protection port of entry (FTZ Docket 14-2010, filed 2/24/2010);

Whereas, notice inviting public comment has been given in the Federal Register (75 FR 11514, 3/11/2010 and 75 FR 15679, 3/30/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 70 is approved, subject to the FTZ Act and the Board's regulations, including Section 400.28.

Signed at Washington, DC, this 29th day of October 2010.
Ronald K. Lorentzen,
Deputy Assistant Secretary for Import Administration, Alternate Chairman, Foreign-Trade Zones Board.
Attest:
Andrew McGilvray,
Executive Secretary.

[FR Doc. 2010-28165 Filed 11-5-10; 8:45 am]

BILLING CODE P